DEPARTMENT OF AGRICULTURE

Forest Service

Alpine County, CA, Resource Advisory Committee

AGENCY: Forest Service, USDA.

ACTION: Notice of meeting.

SUMMARY: The Alpine County Resource Advisory Committee (RAC) will meet on July 15, 2002, in Markleeville, California. The purpose of the meeting is to discuss issues relating to implementing the Secure Rural Schools and Community Self-Determination Act of 2000 (Payments to States) an the expenditure of Title II funds benefiting National Forest System lands on the Humboldt-Toiyabe, and Stanislaus National Forests in Alphine County.

DATES: The meeting will be held at the Turtle Rock County Park, Markleeville, CA.

FOR FURTHER INFORMATION CONTACT: Laura Williams, Committee Coordinator, USDA, Homboldt-Toiyabe National Forest, 1536 S Carson St, Carson City, NV 89701, (775) 884-8150, e-mail: ljwilliams@fed.us.

SUPPLEMENTARY INFORMATION: Agenda items to be covered include: (1) Old business; (2) Project Criteria Discussion; (3) Camping in Alphine County; (4) Project Proposals; (5) New business & Public comment.

The meeting is open to the public. Public input opportunity will be provided and individuals will have the opportunity to address the Committee at that time.

Dated: June 26, 2002.
Gary Schiff,
Carson District Ranger.

[FR Doc. 02-16670 Filed 7-2-02; 8:45 am]

BILLING CODE 3410-11-M